DEPARTMENT OF ENERGY

Agency Information Collection Extension

AGENCY: Department of Energy.

ACTION: Notice of request for comments.

SUMMARY: The Department of Energy (DOE), pursuant to the Paperwork Reduction Act of 1995, intends to extend for three years, an information collection request with the Office of Management and Budget (OMB). The collections in this package are applicable to contract management in DOE, collected by DOE to monitor and manage the safety performance of its contractors and to fulfill federal reporting requirements. The information obtained from DOE contractors is used by Department management at the appropriate levels to manage the work pertaining to environment, safety and health throughout DOE and will include automated reporting of information into the following systems: Computerized Accident/Incident Reporting System (CAIRS); Occurrence Reporting and Processing System (ORPS); Radiation Exposure Monitoring System (REMS); Annual Fire Protection Summary Application; Safety Basis Information System; and DOE OPEXShare Lessons Learned System.

DATES: Comments regarding this proposed information collection must be received on or before December 6, 2022. If you anticipate any difficulty in submitting comments within that period, contact the person listed in the FOR FURTHER INFORMATION CONTACT section as soon as possible.

ADDRESSES: Written comments may be sent to Baldev Dhillon, EHSS-74, Germantown Building, U.S. Department of Energy, 1000 Independence Ave. SW, Washington, DC 20585-1290, or by email at Baldev.Dhillon@hq.doe.gov, or information about the collection instruments may be obtained at https://energy.gov/ehss/information-collection.

FOR FURTHER INFORMATION CONTACT: Baldev Dhillon, EHSS-74, (301) 903-0990, Baldev.Dhillon@hq.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-0300.

(2) Information Collection Request Titled: Environment, Safety and Health.

(3) Type of Review: Renewal.

(4) Purpose: The collections are used by DOE to exercise management oversight and control over its contractors in the ways in which the DOE contractors provide goods and services for DOE organizations and activities in accordance with the terms of their contract(s); the applicable statutory, regulatory and mission support requirements of the Department.

(5) Annual Estimated Number of Respondents: 775.

(6) Annual Estimated Number of Total Responses: 73,040.

(7) Annual Estimated Number of Burden Hours: 33,771.

(8) Annual Estimated Reporting and Recordkeeping Cost Burden: $151,448.

Statutory Authority: Section 641 of the Department of Energy Organization Act, codified at 42 U.S.C. 7251, and the following additional authorities:

Computerized Accident/Incident Reporting System (CAIRS): DOE Order 231.1B (November 28, 2012).

Occurrence Reporting and Processing System (ORPS): DOE Order 232.2A (October 4, 2019).

Radiation Exposure Monitoring System (REMS): 10 CFR part 835; DOE Order 231.1B (November 28, 2012).

Annual Fire Protection Summary Application: DOE Order 231.1B (November 28, 2012).

Safety Basis Information System: 10 CFR part 830; DOE Order 231.1B (November 28, 2012).

DOE OPEXShare Lessons Learned System: DOE Order 210.2A (April 8, 2011).

Signing Authority

This document of the Department of Energy was signed on September 29, 2022, by Todd N. Lapointe, Acting Director, The Office of Environment, Health, Safety and Security pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on October 4, 2022.
Treena V. Garrett,
Federal Register Liaison Officer, U.S. Department of Energy.

[FR Doc. 2022-21881 Filed 10-6-22; 8:45 am]

BILLING CODE 6450-01-P